DEPARTMENT OF THE INTERIOR

Bureau of Reclamation

Information Collection Activities; Proposed Information Collection; Comment Request

AGENCY: Bureau of Reclamation, Interior.

ACTION: Notice and request for comments.

SUMMARY: The Bureau of Reclamation (we, our, or us) intends to seek renewal of the following approved information collection set to expire on August 31, 2011: Recreation Visitor Use Surveys. We will use several distinct forms to collect different types of recreation information. Before submitting the information collection request—OMB No. 1006-0028—to the Office of Management and Budget (OMB) for renewal, we are soliciting comments on specific aspects of the information collection.

DATES: Comments on this notice must be received by May 23, 2011.

ADDRESSES: Send all comments concerning this notice to Bureau of Reclamation, Office of Policy and Administration, Attention: Jerome Jackson (84-53000), P.O. Box 25007, Denver, CO 80225-0007, or via e-mail at jljackson@usbr.gov.

FOR FURTHER INFORMATION CONTACT: For further information or a copy of the proposed collection of information forms, contact Jerome Jackson at 303-445-2712.

SUPPLEMENTARY INFORMATION: In accordance with the Paperwork Reduction Act of 1995 (44 U.S.C. 3501 et seq.), this notice announces that we are requesting approval for the collection of data from recreational users of our lands and waterbodies.

To meet our needs for the collection of visitor use data, we will be requesting that OMB reauthorize a two-part request.

The first part of the request provides us with a set of 11 pre-approved questionnaires to be administered as approved by OMB. The second part of the request consists of OMB and the Bureau of Reclamation agreeing upon a process whereby we custom design a survey instrument to fit a specific situation or area. The custom designed survey would be created by extracting questions from the approved questionnaires as applicable to the area and issue being evaluated. Only questions included in the pre-approved questionnaires will be used. We will then submit the new survey form to OMB for expedited approval.

Title: Recreation Visitor Use Surveys.

Abstract: The Bureau of Reclamation is responsible for recreation development at all of its reservoirs. Presently, there are 289 designated recreation areas on our lands within the 17 Western States. We must be able to respond to emerging trends, changes in the demographic profile of users, changing values, needs, wants, desires, and conflicts between user groups. Statistically valid and up-to-date data derived from users is essential to developing and providing recreation programs relevant to today's visitor.

Respondents: Respondents to the surveys will be members of the public engaged in recreational activities on our lands. Several surveys target people engaged in various activities such as boating on a specific lake or camping at a developed campground.

Visitors will primarily consist of local residents, those from large metropolitan areas in the vicinity of the lake/reservoir, and those from out of state.

Frequency: Varies by survey.

Estimated Total Number of Respondents: 7,531

Estimated Number of Responses per Respondent: 1.0

Estimated Total of Annual Responses: 7,531

Estimated Total Annual Burden Hours on Respondents: 2,043

Estimate of Burden for Each Form
Survey instrument | Burden estimate per survey (in minutes) | Number of surveys (times/yr.) | Number of respondents per survey | Total estimated number of respondents | Total annual hour burden
Marina Survey | 10 | 2 | 278 | 556 | 93
Campground Survey | 25 | 2 | 278 | 556 | 232
River Instream Flow Survey | 20 | 2 | 278 | 556 | 185
Reservoir Preferred Water Level Survey | 15 | 2 | 278 | 556 | 139
Lake/River Visit Expenditure Survey | 15 | 2 | 278 | 556 | 139
Recreation Activities Survey | 15 | 2 | 278 | 556 | 139
Recreation Management Survey | 15 | 2 | 278 | 556 | 139
Recreation Fee Survey | 10 | 1 | 581 | 581 | 97
Recreation Development Survey | 15 | 2 | 278 | 556 | 139
Water Level Impacts on Recreation Boating Use | 10 | 2 | 278 | 556 | 93
River Recreation Quality Survey | 20 | 2 | 278 | 556 | 185
Customized Surveys | 20 | 5 | 278 | 1,390 | 463
Totals |  |  |  | 7,531 | 2,043

Comments:

Comments are invited on:

(a) Whether the proposed collection of information is necessary for the proper performance of our functions, including whether the information will have practical use;

(b) The accuracy of our estimated time and cost burdens of the proposed

collection of information, including the validity of the methodology and assumptions used;

(c) Ways to enhance the quality, use, and clarity of the information to be collected; and

(d) Ways to minimize the burden of the collection of information on respondents, including increased use of automated collection techniques or other forms of information technology.

We will summarize all comments received regarding this notice. We will publish that summary in the Federal Register after the information collection is submitted to OMB for review and renewal.

Before including your address, phone number, e-mail address, or other personal identifying information in your comment, you should be aware that your entire comment—including your personal identifying information—may be made publicly available at any time. While you can ask us in your comment to withhold your personal identifying information from public review, we cannot guarantee that we will be able to do so.

Dated: March 9, 2011.
Roseann Gonzales,
Director, Policy and Administration.

[FR Doc. 2011-6631 Filed 3-21-11; 8:45 am]

BILLING CODE 4310-MN-P